DEPARTMENT OF TRANSPORTATION

Federal Aviation Administration

Notice of Availability of Draft Environmental Assessment; Ann Arbor Municipal Airport, Ann Arbor, MI

AGENCY: The Federal Aviation Administration is issuing this notice on behalf of the Michigan Department of Transportation (MDOT), Bureau of Aeronautics and Freight Services.

ACTION: Notice of Availability of a Draft Environmental Assessment (EA) for public review and comment.

SUMMARY: The FAA has delegated selected responsibilities for compliance with the National Environmental Protection Act to the MDOT as part of the State Block Grant Agreement authorized under Title 49 U.S.C., Section 47128. This notice is to advise the public pursuant to the National Environmental Policy Act of 1969, as amended, (NEPA) 42 U.S.C. 4332(2)(c) that MDOT has prepared a Draft EA for the proposed extension of runway 6/24 at the Ann Arbor Municipal Airport. While not required for an EA, the FAA is issuing this notice to facilitate public involvement. The Draft EA assesses the potential environmental impacts resulting from the proposed extension of runway 6/24 from 3,500 feet to 4,300 feet. This evaluation also includes the relocation or replacement of the Federally Owned Omni Directional Approach Lighting System. All reasonable alternatives were considered including the no action alternative.

DATES: Written comments on the Draft EA must be received by MDOT on or before 5:00 p.m. on April 12, 2010. Comments may be sent by electronic mail to Molly Lamrouex at lamrouexm@michigan.gov or written comments may be submitted to Molly Lamrouex, MDOT Bureau of Aeronautics and Freight Services, 2700 Port Lansing Road, Lansing, MI 48906. The Draft EA can be reviewed at the following locations:

(a) Ann Arbor City Library, 343 S. Fifth Ave., Ann Arbor, MI 48104

(b) Pittsfield Township Hall, 6201 W. Michigan Ave., Ann Arbor, MI 48108

(c) Ann Arbor Municipal Airport, 801 Airport Dr., Ann Arbor, MI 48103

(d) Ann Arbor City Hall, 100 N. Fifth Ave., Ann Arbor, MI 48104

(e) MDOT BAFS, 2700 Port Lansing Road, Lansing MI 48906

Copies of the Draft EA are available by contacting Molly Lamrouex, MDOT Bureau of Aeronautics and Freight Services, 2700 Port Lansing Road, Lansing, MI 48906 or by phone at 517-335-9866. The Draft EA is also available at http://www.a2gov.org/government/publicservices/fleetandfacility/Airport/Pages/default.aspx A public hearing to provide information on the draft EA and accept comments from the public will be held from 4 to 7 p.m. on Wednesday, March 31, 2010 at the Cobblestone Farm Barn, 2781 Packard Rd., Ann Arbor, MI 48108.

SUPPLEMENTARY INFORMATION: The EA includes analysis used to evaluate the potential environmental impacts in the study area. Upon publication of the Draft EA and a Final EA, MDOT will be coordinating with federal, state and local agencies, as well as the public, to obtain comments and suggestions regarding the EA for the proposed project. The Draft EA assesses impacts and reasonable alternatives including a no action alternative pursuant to NEPA; FAA Order 1050.1, Policies and Procedures for Considering Environmental Impacts; FAA Order 5050.4B, National Environmental Policy Act (NEPA) Implementing Instructions for Airport Actions; and the President's Council on Environmental Quality (CEQ) Regulations implementing the provisions of NEPA, and other appropriate Agency guidance.

Joe Hebert,
Acting Manager, Detroit Airports District Office, Great Lakes Region.

[FR Doc. 2010-5521 Filed 3-18-10; 8:45 am]

BILLING CODE 4910-13-P